DEPARTMENT OF EDUCATION

[CFDA Nos.: 84.141A-HEP and CFDA No. 84.149A-CAMP]

Notice Inviting Applications for New Awards for Fiscal Year (FY) 2000 for the High School Equivalency Program (HEP) and the College Assistance Migrant Program (CAMP)

Purpose of Programs: The purpose of the HEP and CAMP programs is to provide grants to institutions of higher education (IHEs), or to private non-profit agencies working in cooperation with IHEs, to help migrant and seasonal farmworkers complete high school and succeed in postsecondary education.

Eligible Applicants—HEP and CAMP: IHEs or private non-profit agencies working in cooperation with IHEs.

Deadline for Transmittal of Applications: March 10, 2000.

Applications Available: January 13, 2000.

Deadline for Intergovernmental Review: May 10, 2000.

Available Funds: HEP FY 2000: $6,000,000.

Estimated Range of Awards: HEP $150,000-$475,000.

Estimated Average Size of Awards: HEP $375,000.

Estimated Number of Awards: HEP 16.

Available Funds: CAMP FY 1999: $3,000,000.

Estimated Range of Awards: CAMP $150,000-$400,000.

Estimated Average Size of Awards: CAMP $325,000.

Estimated Number of Awards: CAMP 9.

Note: The Department is not bound by any estimates in this notice.

Project Period: Up to 60 months.

The HEP program assists migrant and seasonal farmworkers to obtain a general education diploma (GED) and to be placed in postsecondary education or training, career positions, or the military. By locating the programs at IHEs, migrant and seasonal farmworkers also have opportunities to attend cultural events, academic programs, and other educational and cultural activities usually not available to them. The CAMP program assists migrant and seasonal farmworkers to successfully complete the first academic year of study in the college or university, and provides follow-up services to help students continue in postsecondary education.

The selection criteria used to review applications, as required by the program statute are included in the application package.

The Congress has appropriated a total of $15,000,000 for HEP and $7,000,000 for CAMP for FY 2000. The increases in the FY 2000 appropriations ($6,000,000 for HEP and $3,000,000 for CAMP) will be used to fund new applications.

Applicable Regulations

(a) The Education Department General Administrative Regulations (EDGAR) as follows:

(1) 34 CFR Part 74 (Administration of Grants and Agreements with Institutions of Higher Education, Hospitals, and Nonprofit Organizations).

(2) 34 CFR Part 75 (Direct Grant Programs).

(3) 34 CFR Part 77 (Definitions that Apply to Department Regulations).

(4) 34 CFR Part 79 (Intergovernmental Review of Department of Education Programs and Activities).

(5) 34 CFR Part 82 (New Restrictions on Lobbying).

(6) 34 CFR Part 85 (Governmentwide Debarment and Suspension) Non-procurement and Governmentwide Requirements for Drug-Free Workplace Grants).

(7) 34 CFR Part 86 (Drug-Free Schools and Campuses).

(b) 34 CFR Part 206 (Special Education Programs for Students Whose Families are Engaged in Migrant and Other Seasonal Farmwork.)

(c) The definitions of a migratory child, a migratory agricultural worker and a migratory fisher continued in 34 CFR 200.40 and the definitions of farmwork, migrant farmworker and seasonal farmworker contained in 20 CFR 633.1043.

FOR FURTHER INFORMATION CONTACT: To obtain a copy of the application or to obtain information on the program, call or write Mary L. Suazo, U.S. Department of Education, Office of Elementary and Secondary Education, Office of Migrant Education, 400 Maryland Avenue, SW, Room 3E227, FOB 6, Washington, DC 20202-6135. Telephone Number: (202) 260-1396. Inquiries may be sent by e-mail to maryXsuazo@ed.gov or by FAX at (202) 205-0089. Individuals who use a telecommunications device for the deaf (TDD) may call the Federal Information Relay Service (FIRS) at 1-800-877-8339.

Individuals with disabilities may obtain this document in an alternate format (e.g., Braille, large print, audiotape, or computer diskette) on request to the contact person listed in the preceding paragraph.

Electronic Access to This Document

Anyone may view this document, as well as all other Department of Education documents published in the Federal Register, in text or portable document format (pdf) on the World Wide Web at either of the following sites:

http://ocfo.ed.gov/fedreg.htm

http://www.ed.gov/news.html

To use the pdf you must have the Adobe Acrobat Reader Program with Search, which is available free at either of the previous sites. If you have questions about using the pdf, call the U.S. Government Printing Office toll free at 1-888-293-6498.

Information about the Department's funding opportunities, including copies of application notices for discretionary grant competitions, can be viewed on the Department's electronic bulletin board (ED Board), telephone (202) 260-9950; or on the Internet Gopher Server at GOPHER.ED.GOV (under Announcements, Bulletins and Press Releases). However, the official application notice for a discretionary grant competition is the notice published in the Federal Register.

Authority: Program Authority:

20 U.S.C. 1070d-2.

Dated: January 13, 2000.
Michael Cohen,
Assistant Secretary, Office of Elementary and Secondary Education.

[FR Doc. 00-1166 Filed 1-18-00; 8:45 am]

BILLING CODE 4000-01-M